DEPARTMENT OF ENERGY

Federal Energy Regulatory Commission

Combined Notice of Filings #1

Take notice that the Commission received the following electric rate filings:

Docket Numbers: ER12-1457-002

Applicants: Southern California Edison Company

Description: Amendment to GIA and DSA for San Gorgonio Farms Wind Farm Project to be effective 3/23/2012.

Filed Date: 7/23/12

Accession Number: 20120723-5180

Comments Due: 5 p.m. ET 8/13/12

Docket Numbers: ER12-162-003

Applicants: Bishop Hill Energy II LLC

Description: Triennial market power analysis of Bishop Hill Energy II LLC.

Filed Date: 7/23/12

Accession Number: 20120723-5217

Comments Due: 5 p.m. ET 9/21/12

Docket Numbers: ER12-2288-000

Applicants: PJM Interconnection, L.L.C.

Description: Compliance Filing to Opinion No. 503 in Docket ER06-456, et al. to be effective 7/24/2012.

Filed Date: 7/23/12

Accession Number: 20120723-5144

Comments Due: 5 p.m. ET 8/13/12

Docket Numbers: ER12-2289-000

Applicants: Southwest Power Pool, Inc.

Description: Incorporate Formula Rate Template for Empire District Electric Co. to be effective 8/1/2012.

Filed Date: 7/23/12

Accession Number: 20120723-5148

Comments Due: 5 p.m. ET 8/13/12

Docket Numbers: ER12-2290-000

Applicants: New England Power Company

Description: Operational Interface and Transfer of Asset Agreement with ANP Bellingham to be effective 9/22/2012.

Filed Date: 7/23/12

Accession Number: 20120723-5151

Comments Due: 5 p.m. ET 8/13/12

Docket Numbers: ER12-2291-000

Applicants: New England Power Company

Description: Agreement for Installation of Surge Arrestors with ANP Blackstone to be effective 9/22/2012.

Filed Date: 7/23/12

Accession Number: 20120723-5156

Comments Due: 5 p.m. ET 8/13/12

Docket Numbers: ER12-2292-000

Applicants: Southwest Power Pool, Inc.

Description: Revisions to Attachment AE—Non-Dispatchable Resources Curtailment to be effective 10/15/2012.

Filed Date: 7/23/12

Accession Number: 20120723-5176

Comments Due: 5 p.m. ET 8/13/12

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 24, 2012.
Nathaniel J. Davis, Sr.,
Deputy Secretary.

[FR Doc. 2012-18609 Filed 7-30-12; 8:45 am]

BILLING CODE 6717-01-P